COMMITTEE FOR PURCHASE FROM PEOPLE WHO ARE BLIND OR SEVERELY DISABLED

Procurement List; Additions

AGENCY: Committee for Purchase From People Who Are Blind or Severely Disabled.

ACTION: Additions to the procurement list.

SUMMARY: This action adds product(s) to the procurement list that will be furnished by nonprofit agencies employing persons who are blind or have other severe disabilities.

DATES: Date added to procurement list: May 28, 2023.

ADDRESSES: Committee for Purchase From People Who Are Blind or Severely Disabled, 355 E Street SW, Suite 325, Washington, DC 20024.

FOR FURTHER INFORMATION CONTACT: Michael R. Jurkowski, Telephone: (703) 785-6404, or email CMTEFedReg@AbilityOne.gov.

SUPPLEMENTARY INFORMATION:

Additions

On 2/25/2022, 3/4/2022, 3/18/2022, 3/25/2022, 4/8/2022, 4/15/2022, 5/27/2022 and 6/10/2022, the Committee for Purchase From People Who Are Blind or Severely Disabled published notice of proposed additions to the Procurement List. This notice is published pursuant to 41 U.S.C. 8503(a)(2) and 41 CFR 51-2.3.

After consideration of the material presented to it concerning capability of qualified nonprofit agencies to provide the product(s) and impact of the additions on the current or most recent contractors, the Committee has determined that the product(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping, or other compliance requirements for small entities other than the small organizations that will furnish the product(s) to the Government.

2. The action will result in authorizing small entities to furnish the product(s) to the Government.

3. There are no known regulatory alternatives which would accomplish the objectives of the Javits-Wagner-O'Day Act (41 U.S.C. 8501-8506) in connection with the product(s) proposed for addition to the Procurement List.

End of Certification

Accordingly, the following product(s) are added to the Procurement List:

Product(s)

NSN(s)—Product Name(s):

MR 13155—Green Saver Crisper Insert, 2 Piece

Designated Source of Supply: Cincinnati Association for the Blind and Visually Impaired, Cincinnati, OH

Contracting Activity: Military Resale-Defense Commissary Agency

Distribution: C-List

NSN(s)—Product Name(s):

MR 10830—Leakproof Baking Mat, Includes Shipper 20830

MR 10833—Foldout Tool Flashlight, Includes Shipper 20833

MR 16800—6 in 1 Screwdriver

MR 16801—Flathead Screwdriver

MR 16802—Phillips Screwdriver

MR 16803—Needle Nose Pliers

MR 16804—Slip Joint Pliers

MR 16805—Adjustable Wrench, 6 Inches

MR 16806—Tape Measure

MR 16807—Tie Down Strap

MR 11508—Cat Teaser

MR 10826—Cordless Work Light, Includes Shipper 20826

MR 10852—Water Toy Tower, Includes Shipper 20852

MR 10840—Disney Marvel Toys, Includes Shipper 20840

MR 10836—Barbecue Grill Mat, Includes Shipper 20836

MR 10861—Soap Dispensing Sponge Holder, Includes Shipper 20861

MR 10860—Mosquito Repellent Spray, Includes Shipper 20860

Designated Source of Supply: Winston-Salem Industries for the Blind, Inc, Winston-Salem, NC

Contracting Activity: Military Resale-Defense Commissary Agency

Distribution: C-List

NSN(s)—Product Name(s):

MR 16950—Assorted Safety Pins, 50 Piece

MR 16951—Thread Spool, Black and White, 2 Piece

MR 16952—Thread Spool, Black

MR 16953—Thread Spool, White

MR 16954—Fabric Glue, ¾ Ounce

MR 16955—Heavy Fabric Needles, 7 Piece

MR 16956—Iron-On Patches, 8 Piece

MR 16957—FixIt Tape Strips, 40 Piece

MR 16958—Fabric Scissors, 8.5″

MR 16959—Seam Ripper & Tape Measure

MR 16960—Sew Quick Threaded Needles, 13-Piece

MR 16961—Survival Sewing Kit, 64-Piece

MR 16962—Hook and Loop (HNL) Tape, 18″, Black

MR 16963—Hook and Loop (HNL) Tape, 18″, White

Designated Source of Supply: Association for Vision Rehabilitation and Employment, Inc., Binghamton, NY

Contracting Activity: Military Resale-Defense Commissary Agency

Distribution: C-List

NSN(s)—Product Name(s):

MR 13500—Garlic Press

Designated Source of Supply: Cincinnati Association for the Blind and Visually Impaired, Cincinnati, OH

Contracting Activity: Military Resale-Defense Commissary Agency

Distribution: C-List

Michael R. Jurkowski,
Acting Director, Business Operations.

[FR Doc. 2023-09032 Filed 4-27-23; 8:45 am]

BILLING CODE 6353-01-P